DEFENSE NUCLEAR FACILITIES SAFETY BOARD

Sunshine Act Notice

AGENCY: Defense Nuclear Facilities Safety Board.

ACTION: Notice of public hearing and meeting.

SUMMARY: Pursuant to the provisions of the Government in the Sunshine Act, notice is hereby given of the Defense Nuclear Facilities Safety Board's (Board) public meeting and hearing described below. The Board invites any interested persons or groups to present any comments, technical information, or data concerning safety issues related to the matters to be considered.

DATES: Session I (Hearing): 5:00 p.m.-7:30 p.m., Session II (Meeting): 8:00 p.m.-9:30 p.m., August 26, 2015.

ADDRESSES: Three Rivers Convention Center, 7016 West Grandbridge Boulevard, Kennewick, Washington 99352.

Status: Open. The Board has determined that an open meeting furthers the public interest underlying both the Government in the Sunshine Act and the Board's enabling legislation. The proceeding is being noticed as both a meeting under the Government in the Sunshine Act and a hearing under the Board's enabling legislation. At the conclusion of Session II, the Board is expected to deliberate and then potentially vote on a staff proposal. Deliberations and voting will proceed in accordance with the Board's operating procedures concerning the conduct of meetings.

Matters To Be Considered: In the Session I hearing, the Board will receive testimony from senior officials from the Department of Energy (DOE) Headquarters, from the Manager for DOE's Office of River Protection (ORP), and from the Federal Project Director for the Waste Treatment and Immobilization Plant (WTP) regarding the current status of DOE efforts to improve safety culture at WTP. The Board will consider several topics related to safety culture. DOE's Office of Independent Enterprise Assessment will be given the opportunity to discuss the concerns identified in the WTP independent safety culture assessments. DOE's Office of Environmental Management and ORP are expected to discuss actions to strengthen and sustain a healthy safety culture at WTP. Testimony will also address actions taken by DOE to assess the effectiveness of their improvements in safety culture and the tools being used to track future progress. After a brief recess, the Board will convene the Session II meeting. The Board will receive testimony from a senior Board technical staff employee concerning DOE's efforts to improve safety culture at WTP and a staff proposal for possible approaches to closing Recommendation 2011-1, Safety Culture at the Waste Treatment and Immobilization Plant. The Board is then expected to conduct deliberations concerning the staff's proposal.

FOR FURTHER INFORMATION CONTACT: Mark Welch, General Manager, Defense Nuclear Facilities Safety Board, 625 Indiana Avenue NW., Suite 700, Washington, DC 20004-2901, (800) 788-4016. This is a toll-free number.

SUPPLEMENTARY INFORMATION: Public participation in the hearing and meeting is invited. The Board is setting aside time in each Session for presentations and comments from the public. Requests to speak may be submitted in writing or by telephone. The Board asks that commenters describe the nature and scope of their oral presentations. Those who contact the Board prior to close of business on August 21, 2015, will be scheduled to speak at the Session most relevant to their presentations. At the beginning of Session I, the Board will post a schedule for speakers at the entrance to the hearing room. Anyone who wishes to comment or provide technical information or data may do so in writing, either in lieu of, or in addition to, making an oral presentation. The Board Members may question presenters to the extent deemed appropriate. Documents will be accepted at the hearing or may be sent to the Board's Washington, DC office. The Board will hold the hearing record open until September 26, 2015, for the receipt of additional materials. The meeting record will close when the meeting adjourns. The hearing and meeting will be presented live through Internet video streaming. A link to the presentation will be available on the Board's Web site (www.dnfsb.gov). A transcript of the hearing and meeting, along with a DVD video recording, will be made available by the Board for inspection and viewing by the public at the Board's Washington office and at DOE's public reading room at the DOE Federal Building, 1000 Independence Avenue SW., Washington, DC 20585. The Board specifically reserves its right to further schedule and otherwise regulate the course of the hearing and meeting, to recess, reconvene, postpone, or adjourn the hearing and meeting, conduct further reviews, and otherwise exercise its power under the Atomic Energy Act of 1954, as amended.

Dated: July 22, 2015.
Jessie H. Roberson,
Vice Chairman.

[FR Doc. 2015-18405 Filed 7-23-15; 11:15 am]

BILLING CODE 3670-01-P